DEPARTMENT OF JUSTICE

Office of Justice Programs

[OMB No. 1121-0240]

Agency Information Collection Activities: Proposed Collection; Comments Requested

ACTION: 30-Day Notice of Information Collection Under Review: Survey of General Purpose Law Enforcement Agencies, 2012.

The Department of Justice, Office of Justice Programs, Bureau of Justice Statistics, will be submitting the following information collection request to the Office of Management and Budget (OMB) for review and approval in accordance with the Paperwork Reduction Act of 1995. The proposed information collection is published to obtain comments from the public and affected agencies. The proposed information collection was previously published in the Federal Register Volume 77, Number 72, page 22347, on April 13, 2012, allowing for a 60-day public comment period.

The purpose of this notice is to allow an additional 30 days for public comment until July 19, 2012. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-7285.

Written comments and suggestions from the pubic and affected agencies concerning the proposed collection of information are encouraged. Your comments should address one or more of the following four points:

—Evaluate whether the proposed collection of information is necessary for the proper performance of the function of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information

1. Type of information collection: Re-instatement of previously approved data collection, Survey of General Purpose Law Enforcement Agencies (SGPLEA), 2012.

2. The title of the form/collection: Survey of General Purpose Law Enforcement Agencies (SGPLEA), 2012.

3. The agency form number, if any, and the applicable component of the Department sponsoring the collection: The form labels are SGPLEA, Bureau of Justice Statistics, Office of Justice Programs, U.S. Department of Justice.

4. Affected Public Who Will be Asked or Required to Respond, as well as a Brief Abstract: General purpose law state and local law enforcement agencies, including police departments, sheriffs, and constables at the state, county and municipal level, including tribal law enforcement agencies. Abstract: The Bureau of Justice Statistics (BJS) proposes to implement a Survey of General Purpose Law Enforcement Agencies (SGPLEA). This survey builds upon the previous eight waves of the BJS-sponsored surveys in the Law Enforcement Management and Administrative Statistics (LEMAS) Program. The SGPLEA will continue to generate nationally-representative estimates of the nature of law enforcement agencies and personnel by focusing on a smaller set of core issues in contemporary policing. With the revision to the SGPLEA, BJS will produce law enforcement statistics that will include a consistent set of core items and topical supplements that will vary from wave to wave. In addition to core issues concerning the number and type of agencies, the nature and diversity of law enforcement personnel, employee wages and benefits, agency budgets and organizational responses to contemporary law enforcement issues, the supplemental components of the 2012 SGPLEA will collect information on the following categories:

a. Recruitment and Retention of Staff

b. Community Policing

c. Information Systems

d. Officer Safety

e. Uses of Force

5. An Estimate of the Total Number of Respondents and the Amount of Time Estimated for an Average Respondent to Respond: Based on pilot testing with a draft of the 2012 SGPLEA instrument, the reduction in the total number of variables included in SGPLEA form compared to the 2007 LEMAS forms, and the increased burden on smaller law enforcement agencies, BJS estimates that 3,200 respondents will complete the SGPLEA survey form with an average burden per respondent of 3 hours.

If additional information is required contact: Jerri Murray, Department Clearance Officer, United States Department of Justice, Justice Management Division, Policy and Planning Staff, Two Constitution Square, 145 N Street NE., Suite 2E-508, Washington, DC 20530.

Dated:June 13, 2012.
Jerri Murray,
Department Clearance Officer, PRA, U.S. Department of Justice.

[FR Doc. 2012-14841 Filed 6-18-12; 8:45 am]

BILLING CODE 4410-18-P